DEPARTMENT OF TRANSPORTATION

Office of the Secretary

Aviation Proceedings, Agreements Filed the Week Ending August 3, 2007

The following Agreements were filed with the Department of Transportation under the sections 412 and 414 of the Federal Aviation Act, as amended (49 U.S.C. 1383 and 1384) and procedures governing proceedings to enforce these provisions. Answers may be filed within 21 days after the filing of the application.

Docket Number: OST-2007-28877.

Date Filed: July 30, 2007.

Parties: Members of the International Air Transport Association.

Subject: TC2 Within Middle East. Expedited Resolutions and Specified Fares Tables.

Intended effective date: 15 August 2007.

Docket Number: OST-2007-28878.

Date Filed: July 30, 2007.

Parties: Members of the International Air Transport Association.

Subject: TC2 Within Middle East. Resolutions and Specified Fares Tables.

Intended effective date: 15 August 2007.

Docket Number: OST-2007-28879.

Date Filed: July 30, 2007.

Parties: Members of the International Air Transport Association, Subject: Composite Passenger Tariff Coordinating Conference. Expedited Composite Resolution 049a.

Intended effective date: 15 September 2007.

Docket Number: OST-2007-28880.

Date Filed: July 30, 2007.

Parties: Members of the International Air Transport Association.

Subject: Composite Passenger Tariff Coordinating Conference. Expedited Composite Resolutions.

Intended effective date: 1 November 2007.

Docket Number: OST-2006-26409.

Date Filed: August 2, 2007.

Parties: Members of the International Air Transport Association.

Subject: TC23 Europe-South Asian Subcontinent. Expedited Flex Fares Package. Bangkok, 13 July 2007. Memo 0158, 2 August 2007.

Intended effective date: 1 November 2007.

Docket Number: OST-2007-28938.

Date Filed: August 3, 2007.

Parties: Members of the International Air Transport Association.

Subject: TC23 Europe-South Asian Subcontinent. Expedited Composite Resolutions.

Intended effective date: 1 November 2007.

Docket Number: OST-2007-28939.

Date Filed: August 3, 2007.

Parties: Members of the International Air Transport Association.

Subject: TC23 Europe-South Asian Subcontinent. Expedited Resolution 250o.

Intended effective date: 1 November 2007.

Renee V. Wright,
Program Manager, Docket Operations, Federal Register Liaison.

[FR Doc. E7-18576 Filed 9-19 -07; 8:45 am]

BILLING CODE 4910-9X-P